DEPARTMENT OF COMMERCE

International Trade Administration

[C-489-843]

Prestressed Concrete Steel Wire Strand From the Republic of Turkey: Notice of Court Decision Not in Harmony With the Final Determination of Countervailing Duty Investigation; Notice of Amended Final Determination

AGENCY: Enforcement and Compliance, International Trade Administration, Department of Commerce.

SUMMARY: On May 26, 2022, the U.S. Court of International Trade (CIT) issued its final judgment in Celik Halat ve Tel Sanayi A.S. v. United States, Court No. 21-00050, sustaining the U.S. Department of Commerce's (Commerce) first remand redetermination pertaining to the countervailing duty (CVD) investigation of prestressed concrete steel wire strand (PC strand) from the Republic of Turkey (Turkey), covering the period of investigation January 1, 2019, through December 31, 2019. Commerce is notifying the public that the CIT's final judgment is not in harmony with Commerce's final determination in that investigation, and that Commerce is amending the final determination with respect to the countervailable subsidy rate assigned to Celik Halat ve Tel Sanayi A.S. (Celik Halat) and all other exporters/producers of PC strand not individually examined.

DATES: Applicable June 5, 2022.

FOR FURTHER INFORMATION CONTACT: Jacob Garten, AD/CVD Operations, Office II, Enforcement and Compliance, International Trade Administration, U.S. Department of Commerce, 1401 Constitution Avenue NW, Washington, DC 20230; telephone: (202) 482-3342.

SUPPLEMENTARY INFORMATION:

Background

On December 11, 2020, Commerce published its Final Determination in the CVD investigation of PC strand from Turkey.¹ Commerce calculated an estimated net countervailable subsidy rate of 158.44 percent for Celik Halat and 94.61 percent for all other exporters/producers not individually examined.² Commerce subsequently published the CVD order on PC strand from Turkey.³

¹ See Prestressed Concrete Steel Wire Strand from the Republic of Turkey: Final Affirmative Countervailing Duty Determination and Final Negative Critical Circumstances Determination, 85 FR 80005 (December 11, 2020) (Final Determination).

² Id.

³ See Prestressed Concrete Steel Wire Strand from the Republic of Turkey: Countervailing Duty Order, 86 FR 7990 (February 3, 2021).

Celik Halat appealed Commerce's Final Determination. On February 15, 2022, the CIT remanded the Final Determination to Commerce, stating that Commerce impermissibly used facts otherwise available with respect to the late filing of Celik Halat's initial questionnaire response.⁴ The CIT ordered Commerce to expeditiously determine a new estimated net countervailable subsidy rate for Celik Halat that does not resort to section 776 of the Tariff Act of 1930, as amended (the Act), with respect to the filing of the initial questionnaire response.⁵

⁴ See Celik Halat ve Tel Sanayi A.S. v. United States, Slip Op. 22-13, Court No. 21-00050 (CIT February 15, 2022).

⁵ Id. at 37.

In its final remand redetermination, issued in April 2022, Commerce accepted Celik Halat's questionnaire responses, and based upon the information received, calculated an estimated net countervailable subsidy rate of 2.96 percent for Celik Halat and 16.87 percent for all other exporters/producers not individually examined.⁶ The CIT sustained Commerce's final redetermination.⁷

⁶ See Final Results of Redetermination Pursuant to Court Remand, Celik Halat ve Tel Sanayi A.S. v. United States, Court No. 21-00050, Slip. Op. 22-13 (CIT February 15, 2022), dated April 15, 2022.

⁷ See Celik Halat ve Tel Sanayi A.S. v. United States, Slip Op. 22-55, Court No. 21-00050 (CIT May 26, 2022).

Timken Notice

In its decision in Timken,⁸ as clarified by Diamond Sawblades,⁹ the U.S. Court of Appeals for the Federal Circuit held that, pursuant to section 516A(c) and (e) of the Act, Commerce must publish a notice of court decision that is not “in harmony” with a Commerce determination and must suspend liquidation of entries pending a “conclusive” court decision. The CIT's May 26, 2022, judgment constitutes a final decision of the CIT that is not in harmony with Commerce's Final Determination. Thus, this notice is published in fulfillment of the publication requirements of Timken.

⁸ See Timken Co. v. United States, 893 F.2d 337 (Fed. Cir. 1990) (Timken).

⁹ See Diamond Sawblades Manufacturers Coalition v. United States, 626 F.3d 1374 (Fed. Cir. 2010) (Diamond Sawblades).

Amended Final Determination

Because there is now a final court judgment, Commerce is amending its Final Determination with respect to Celik Halat and all other exporters/producers not individually examined as follows:

Company | Subsidy rate (percent)
Celik Halat ve Tel Sanayi A.S.¹⁰ | 2.96
All Others | 16.87

Cash Deposit Requirements

Commerce will issue revised cash deposit instructions to U.S. Customs and Border Protection.

¹⁰ Commerce found the following companies to be cross-owned with Celik Halat: Dogan Sirketler Grubu Holding A.S. and Adilbey Holding A.S. See Final Determination, 85 FR at 80006 (n.8).

Notification to Interested Parties

This notice is issued and published in accordance with sections 516A(c) and (e) and 777(i)(1) of the Act.

Dated: June 1, 2022.
Lisa W. Wang,
Assistant Secretary for Enforcement and Compliance.

[FR Doc. 2022-12186 Filed 6-6-22; 8:45 am]

BILLING CODE 3510-DS-P